DEPARTMENT OF COMMERCE

International Trade Administration

[A-570-985]

Xanthan Gum From the People's Republic of China: Preliminary Results of Antidumping Duty Administrative Review, Rescission, in Part, and Preliminary Determination of No Shipments; 2022-2023

AGENCY: Enforcement and Compliance, International Trade Administration, Department of Commerce.

SUMMARY: The U.S. Department of Commerce (Commerce) preliminarily determines that one of the exporters subject to this antidumping duty administrative review made sales of subject merchandise at less than normal value, one of the exporters subject to this antidumping duty administrative review did not make sales of subject merchandise at less than normal value, and that two companies, Shanghai Smart Chemicals Co. Ltd. (Shanghai Smart), and Deosen Biochemical Ltd., had no shipments of subject merchandise during the period of review (POR) July 1, 2022, through June 30, 2023. In addition, we are rescinding this review, in part, with respect to five companies. Interested parties are invited to comment on these preliminary results.

DATES: Applicable August 23, 2024.

FOR FURTHER INFORMATION CONTACT: Reginald Anadio, AD/CVD Operations, Office IV, Enforcement and Compliance, International Trade Administration, U.S. Department of Commerce, 1401 Constitution Avenue NW, Washington, DC 20230; telephone: (202) 482-3166.

SUPPLEMENTARY INFORMATION:

Background

On July 3, 2023, Commerce published in the Federal Register a notice of opportunity to request an administrative review of the antidumping duty order on xanthan gum from the People's Republic of China (China).¹ Between July 27 and 31, 2023, Commerce received requests to conduct administrative reviews.² Commerce published the Initiation Notice of this administrative review on September 11, 2023, where we initiated a review for 34.³ On March 1, 2024, Commerce extended the deadline for these preliminary results to July 30, 2024.⁴ On July 22, 2024, Commerce tolled certain deadlines in this administrative proceeding by seven days.⁵ The deadline for these preliminary results is now August 6, 2024.

¹ See Xanthan Gum from the People's Republic of China: Amended Final Determination of Sales at Less Than Fair Value and Antidumping Duty Order, 78 FR 43143 (July 19, 2013) (Order); and Antidumping or Countervailing Duty Order, Finding, or Suspended Investigation; Opportunity To Request Administrative Review and Join Annual Inquiry Service List, 88 FR 42693 (July 3, 2023).

² Additionally, we note that review requests were filed for two separate companies with minor variations in their names: Shaanxi Rainwood Biotech Co., Ltd.; and Shaanxi Rainwood Biotech Co. Ltd. Accordingly, Commerce initiated this administrative review with respect to the 33 companies. See Jianlong Biotechnology Co. Ltd. (formerly, Inner Mongolia Jianlong Biochemical Co., Ltd.)'s Letter, “Request for Administrative Review,” dated July 31, 2023; see also Meihua Group International Trading (Hong Kong) and Xinjiang Meihua Amino Acid Co., Ltd.'s Letter, “Request for Administrative Review,” dated July 31, 2023; Deosen Biochemical (Ordos) Ltd.'s Letter, “Request for Administrative Review,” dated July 27, 2023; CP Kelco US, Inc.'s (the petitioner) Letter, “Petitioner's Request for Administrative Review,” dated July 31, 2023; Neimenggu Fufeng Biotechnologies Co., Ltd. (aka Inner Mongolia Fufeng Biotechnologies Co., Ltd.)/Shandong Fufeng Fermentation Co., Ltd./Xinjiang Fufeng Biotechnologies Co., Ltd.'s Letter, “Request for Antidumping Administrative Review,” dated July 31, 2023; and SAM HPRP Chemicals, Inc.'s Letter, “Request for Administrative Review,” dated July 28, 2023.

³ See Initiation of Antidumping and Countervailing Duty Administrative Reviews, 88 FR 62322 (September 11, 2023) (Initiation Notice).

⁴ See Memorandum, “Extension of Deadline for Preliminary Results of Antidumping Duty Administrative Review,” dated March 1, 2024.

⁵ See Memorandum, “Tolling of Deadlines for Antidumping and Countervailing Duty Proceedings,” dated July 22, 2024.

For a complete description of the events that occurred following the initiation of the review, see the Preliminary Decision Memorandum.⁶ A list of topics discussed in the Preliminary Decision Memorandum is included in Appendix I. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results of the 2022-2023 Administrative Review of the Antidumping Duty Order on Xanthan Gum from the People's Republic of China,” dated concurrently with, and hereby adopted by, this notice (Preliminary Decision Memorandum).

Scope of the Order

The product covered by the Order includes dry xanthan gum, whether or not coated or blended with other products. For a full description of the scope of the Order, see the Preliminary Decision Memorandum.

Preliminary Determination of No Shipments

Between September and October 2023, Meihua Group International Trading (Hong Kong) Limited/Langfang Meihua Biotechnology Co., Ltd./Xinjiang Meihua Amino Acid Co., Ltd. (collectively, Meihua), Shanghai Smart, and Deosen Biochemical Ltd. filed timely certifications that they had no exports, shipments, sales, or entries of subject merchandise to the United States during the POR.⁷ Based on information obtained from U.S. Customs and Border Protection (CBP) and on Deosen Biochemical Ltd.'s, Meihua's, and Shanghai Smart's no-shipment certifications, Commerce preliminarily determines that Deosen Biochemical Ltd. and Shanghai Smart had no shipments of subject merchandise during the POR.⁸

⁷ See Deosen Biochemical Ltd.'s Letter, “No Shipment Certification of Deosen Biochemical Ltd.,” dated October 11, 2023; see also Shanghai Smart Chemicals Co. Ltd.'s Letter, “No Shipment Certification,” dated September 25, 2023; and Meihua's Letter, “No Shipment Certification,” dated September 21, 2023.

⁸ See Memoranda, “Xanthan Gum from the People's Republic of China; No Shipment Inquiry for Shanghai Smart Chemicals Co., Ltd. during the period 07/01/2022 through 06/30/2023,” dated July 22, 2024; “Xanthan Gum from the People's Republic of China; No Shipment Inquiry for Langfang Meihua Bio-Technology Co., Ltd.; Xinjiang Meihua Amino Acid Co., Ltd.; Meihua Group International Trading (Hong Kong) Limited during the period 07/01/2022 through 06/30/2023,” dated July 22, 2024; and “Xanthan Gum from the People's Republic of China; No Shipment Inquiry for Deosen Biochemical (Ordos) Ltd.; Deosen Biochemical Ltd. during the period 07/01/2022 through 06/30/2023,” dated July 22, 2024.

Consistent with Commerce's practice in non-market economy (NME) cases, we are not rescinding this administrative review with respect to Deosen Biochemical Ltd. and Shanghai Smart but intend to complete the review and issue appropriate instructions to CBP based on the final results of the review.⁹

⁹ See Non-Market Economy Antidumping Proceedings: Assessment of Antidumping Duties, 76 FR 65694 (October 24, 2011); and the “Assessment Rates” section, infra.

Partial Rescission of Administrative Review

Pursuant to 19 CFR 351.213(d)(1), Commerce will rescind an administrative review, in whole or in part, if all parties that requested a review withdraw their requests within 90 days of the publication date of the notice of initiation of the requested review in the Federal Register. Between August and September 2023, the petitioner timely withdrew its request for an administrative review of the following companies: Henan Sinowin Chemical Industry Co., Ltd. (Henan Sinowin); Meihua; Qingdao Yalai Chemical Co., Ltd. (Qingdao Yalai); Foodchem Biotech Co., Ltd.; and Shanghai Cy-Everlasting Imp. & Exp. Co., Ltd. (Shanghai Cy-Everlasting).¹⁰ On September 21, 2023, Meihua withdrew its request for an administrative review of itself.¹¹ Because no other party requested a review of these companies, consistent with 19 CFR 351.213(d)(1), Commerce is rescinding this review, in part, with respect to Henan Sinowin, Meihua, Qingdao Yalai, Foodchem Biotech Co. Ltd. and Shanghai Cy-Everlasting.

¹⁰ See Petitioner's Letters, “Withdrawal of Request for Review,” dated August 17, 2023; “Petitioner's Withdrawal of Certain Requests for Administrative Review,” dated September 19, 2023; and “Petitioner's Withdrawal of Certain Requests for Administrative Review,” dated September 22, 2023.

¹¹ See Meihua's Letter, “Withdrawal of Request for Administrative Review,” dated September 21, 2023.

Methodology

Commerce is conducting this review in accordance with section 751(a)(1)(B) of the Tariff Act of 1930, as amended (the Act). We calculated constructed export price in accordance with section 772 of the Act. Because China is an NME country within the meaning of section 771(18) of the Act, we calculated normal value in accordance with section 773(c) of the Act. For a full description of the methodology underlying these preliminary results, see the Preliminary Decision Memorandum.

Separate Rates

Commerce preliminarily determines that two non-individually examined companies are eligible for separate rates in this administrative review.¹² The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. Section 735(c)(5)(A) of the Act states that the all-others rate should be calculated by averaging the weighted-average dumping margins calculated for individually-examined respondents, excluding dumping margins that are zero, de minimis, or based entirely on facts available. In this review, Commerce preliminarily found a zero rate for Neimenggu Fufeng Biotechnologies Co., Ltd. (aka Inner Mongolia Fufeng Biotechnologies Co., Ltd.)/Shandong Fufeng Fermentation Co., Ltd./Xinjiang Fufeng Biotechnologies Co., Ltd. Therefore, the only rate that is not zero, de minimis or based entirely on facts otherwise available is the rate calculated for Deosen Biochemical (Ordos) Ltd. Consequently, the rate calculated for Deosen Biochemical (Ordos) Ltd. is also assigned as the rate for all other producers and exporters.

¹² See Preliminary Decision Memorandum at the “Separate Rate Determination” section for more details.

China-Wide Entity

Under Commerce's policy regarding the conditional review of the China-wide entity,¹³ the China-wide entity will not be under review unless a party specifically requests, or Commerce self-initiates, a review of the entity. Because no party requested a review of the China-wide entity in this review, the entity is not under review, and the entity's rate (i.e., 154.07 percent) is not subject to change.¹⁴

¹³ See Antidumping Proceedings: Announcement of Change in Department Practice for Respondent Selection in Antidumping Duty Proceedings and Conditional Review of the Nonmarket Economy Entity in NME Antidumping Duty Proceedings, 78 FR 65963 (November 4, 2013).

¹⁴ See Order, 78 FR at 43144.

Aside from Deosen Biochemical Ltd. and Shanghai Smart, for which we preliminarily find no shipments, and Henan Sinowin, Meihua, Qingdao Yalai, and Foodchem Biotech Co., Ltd. and Shanghai Cy-Everlasting, for which this review is being rescinded, Commerce considers all other companies for which a review was requested and did not demonstrate separate rate eligibility to be part of the China-wide entity.¹⁵ For these preliminary results, we consider the companies listed in Appendix II to be part of the China-wide entity because they did not file separate rate applications or certifications. For additional information, see the Preliminary Decision Memorandum.

¹⁵ See Initiation Notice, 87 FR at 54464 (“All firms listed below that wish to qualify for separate rate status in the administrative reviews involving NME countries must complete, as appropriate, either a separate rate application or certification, as described below.”).

Preliminary Results of Review

We preliminarily determine that the following weighted-average dumping margins exist for the POR July 1, 2022, through June 30, 2023:

Exporter | Weighted-average dumping margin (percent)
Deosen Biochemical (Ordos) Ltd | 1.56
Neimenggu Fufeng Biotechnologies Co., Ltd. (aka Inner Mongolia Fufeng Biotechnologies Co., Ltd.)/Shandong Fufeng Fermentation Co., Ltd./Xinjiang Fufeng Biotechnologies Co., Ltd | 0.00
Non-Individually Examined Companies Receiving a Separate Rate
Jianlong Biotechnology Co., Ltd. (formerly, Inner Mongolia Jianlong Biochemical Co., Ltd) | 1.56
CP Kelco (Shandong) Biological Company Limited | 1.56

Disclosure

Commerce intends to disclose its calculations performed to interested parties for these preliminary results within five days of any public announcement or, if there is no public announcement, within five days of the date of publication of this notice in accordance with 19 CFR 351.224(b).

Verification

As provided in section 782(i)(3) of the Act, because Commerce has received a timely request to conduct verification by an interested party and has not made a verification in the two immediately preceding reviews, Commerce intends to verify certain information reported by Deosen Biochemical (Ordos) Ltd. and Neimenggu Fufeng Biotechnologies Co., Ltd. (aka Inner Mongolia Fufeng Biotechnologies Co., Ltd.)/Shandong Fufeng Fermentation Co., Ltd./Xinjiang Fufeng Biotechnologies Co., Ltd.¹⁶

¹⁶ See Petitioner's Letter, “Verification Request,” dated December 20, 2023; see also Xanthan Gum From the People's Republic of China: Final Results of the Antidumping Duty Administrative Review and Final Determination of No Shipments; 2015-2016, 83 FR 6513 (February 14, 2018), and accompanying IDM.

Public Comment: Pursuant to 19 CFR 351.309(c)(1)(ii), interested parties may submit case briefs to Commerce no later than seven days after the date on which the last verification report is issued in this review. Rebuttal briefs, limited to issues raised in the case briefs, may be filed not later than five days after the date for filing case briefs.¹⁷ Interested parties who submit case briefs or rebuttal briefs in this proceeding must submit: (1) a table of contents listing each issue; and (2) a table of authorities.¹⁸

¹⁷ See 19 CFR 351.309(d); see also Administrative Protective Order, Service, and Other Procedures in Antidumping and Countervailing Duty Proceedings, 88 FR 67069, 67077 (September 29, 2023) (APO and Service Final Rule).

¹⁸ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁹ Further, we request that interested parties limit their public executive summary of each issue to no more than 450 words, not including citations. We intend to use the public executive summaries as the basis of the comment summaries included in the issues and decision memorandum that will accompany the final results in this administrative review. We request that interested parties include footnotes for relevant citations in the executive summary of each issue. Note that Commerce has amended certain of its requirements pertaining to the service of documents in 19 CFR 351.303(f).²⁰

¹⁹ We use the term “issue” here to describe an argument that Commerce would normally address in a comment of the Issues and Decision Memorandum.

²⁰ See APO and Service Final Rule, 88 FR at 67079; see also 19 CFR 351.303 (for general filing requirements).

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Unless otherwise extended, Commerce intends to issue the final results of this administrative review, which will include the results of its analysis of issues raised in any briefs, within 120 days of publication of these preliminary results of review in the Federal Register, pursuant to section 751(a)(3)(A) of the Act.

Assessment Rates

Upon issuance of the final results of review, Commerce will determine, and CBP shall assess, antidumping duties on all appropriate entries covered by this review.²¹ Commerce intends to issue appropriate assessment instructions to CBP 35 days after the publication of the final results of this review in the Federal Register. If a timely summons is filed at the U.S. Court of International Trade, the assessment instructions will direct CBP not to liquidate relevant entries until the time for parties to file a request for a statutory injunction has expired (i.e., within 90 days of publication).

²¹ See 19 CFR 351.212(b)(1).

We will calculate importer/customer-specific assessment rates equal to the ratio of the total amount of dumping calculated for examined sales to a particular importer/customer to the total entered value of those sales, in accordance with 19 CFR 351.212(b)(1).²² Where the respondent reported reliable entered values, Commerce intends to calculate importer/customer-specific ad valorem assessment rates by dividing the total amount of dumping calculated for all reviewed U.S. sales to the importer/customer by the total entered value of the merchandise sold to the importer/customer.²³ Where the respondent did not report entered values, Commerce will calculate importer/customer-specific assessment rates by dividing the total amount of dumping calculated for all reviewed U.S. sales to the importer/customer by the total quantity of those sales. Commerce will calculate an estimated ad valorem importer/customer-specific assessment rate to determine whether the per-unit assessment rate is de minimis; however, Commerce will use the per-unit assessment rate where entered values were not reported.²⁴ Where an importer/customer-specific ad valorem assessment rate is not zero or de minimis, Commerce will instruct CBP to collect the appropriate duties at the time of liquidation. Where either the respondent's ad valorem weighted-average dumping margin is zero or de minimis, or an importer/customer-specific ad valorem assessment rate is zero or de minimis,²⁵ Commerce will instruct CBP to liquidate the appropriate entries without regard to antidumping duties.

²² We applied the assessment rate calculation method adopted in Antidumping Proceedings: Calculation of the Weighted-Average Dumping Margin and Assessment Rate in Certain Antidumping Proceedings: Final Modification, 77 FR 8101 (February 14, 2012).

²³ See 19 CFR 351.212(b)(1).

²⁴ Id.

²⁵ See 19 CFR 351.106(c)(2).

For respondents not individually examined in this administrative review that qualified for a separate rate, the assessment rate will be equal to the weighted-average dumping margin assigned to the respondent in the final results of this review.²⁶

²⁶ See Drawn Stainless Steel Sinks from the People's Republic of China: Preliminary Results of the Antidumping Duty Administrative Review and Preliminary Determination of No Shipments: 2014-2015, 81 FR 29528 (May 12, 2016), and accompanying Preliminary Decision Memorandum at 10-11, unchanged in Drawn Stainless Steel Sinks from the People's Republic of China: Final Results of Antidumping Duty Administrative Review; Final Determination of No Shipments; 2014-2015, 81 FR 54042 (August 15, 2016).

Pursuant to Commerce's refinement to its practice, for sales that were not reported in the U.S. sales database submitted by a respondent individually examined during this review, Commerce will instruct CBP to liquidate the entry of such merchandise at the dumping margin assigned to the China-wide entity (i.e., 154.07 percent).²⁷ Additionally, where Commerce determines that an exporter under review had no shipments of subject merchandise to the United States during the POR, any suspended entries of subject merchandise that entered under that exporter's CBP case number during the POR will be liquidated at the dumping margin assigned to the China-wide entity (i.e., 154.07 percent).²⁸

²⁷ For a full discussion of this practice, see Non-Market Economy Antidumping Proceedings: Assessment of Antidumping Duties, 76 FR 65694 (October 24, 2011); see also Order, 78 FR at 43144.

²⁸ See Order, 78 FR at 43144.

In accordance with section 751(a)(2)(C) of the Act, the final results of this review shall be the basis for the assessment of antidumping duties on entries of merchandise covered by the final results of this review and for future deposits of estimated antidumping duties, where applicable.

Cash Deposit Requirements

The following cash deposit requirements will be effective for all shipments of xanthan gum from China entered, or withdrawn from warehouse, for consumption on or after the date of publication of the notice of the final results of this administrative review in the Federal Register, as provided for by section 751(a)(2)(C) of the Act: (1) for companies granted a separate rate in the final results of this review, the cash deposit rate will be equal to the weighted-average dumping margin established in the final results of this review for the company (except, if the rate is zero or de minimis, then a cash deposit rate of zero will be required); (2) for previously investigated or reviewed China and non-China exporters not listed above that received a separate rate in a prior segment of this proceeding, the cash deposit rate will continue to be the existing exporter-specific rate; (3) for all China exporters of subject merchandise that have not been found to be entitled to a separate rate, the cash deposit rate will be the rate for the China-wide entity, which is 154.07 percent; ²⁹ and (4) for all non-China exporters of subject merchandise that have not received their own rate, the cash deposit rate will be the rate applicable to China exporter(s) that supplied that non-China exporter. These deposit requirements, when imposed, shall remain in effect until further notice.

²⁹ See Order, 78 FR at 43144.

Notification to Importers

This notice also serves as a preliminary reminder to importers of their responsibility under 19 CFR 351.402(f) to file a certificate regarding the reimbursement of antidumping duties prior to liquidation of the relevant entries during this review period. Failure to comply with this requirement could result in the Commerce's presumption that reimbursement of antidumping duties occurred and the subsequent assessment of double antidumping duties.

Notification to Interested Parties

Commerce is issuing and publishing these preliminary results in accordance with sections 751(a)(1) and 777(i)(1) of the Act, and 19 CFR 351.213(d)(4) and 351.221(b)(4).

Dated: August 6, 2024.
Scot Fullerton,
Acting Deputy Assistant Secretary for Antidumping and Countervailing Duty Operations.

Appendix I—List of Topics Discussed in the Preliminary Decision Memorandum

I. Summary

II. Background

III. Scope of the Order

IV. Partial Rescission of Administrative Review

V. Preliminary Determination of No Shipments

VI. Single Entity Treatment

VII. Discussion of the Methodology

VIII. Currency Conversion

IX. Recommendation

Appendix II—Companies Determined To Be Part of the China-Wide Entity

1. A.H.A. International Co., Ltd.

2. East Chemsources Ltd.

3. Far East International Forwarding Company

4. Foodchem Biotech Pte. Ltd.

5. Greenhealth International Co., Ltd. (Hong Kong)

6. Guangzhou Zio Chemical Co., Ltd.

7. Hangzhou Yuanjia Chemical Co., Ltd.

8. Hebei Xinhe Biochemical Co., Ltd.

9. Nanotech Solutions SDN BHD

10. Pingxiang Omni Trading Co., Ltd.

11. Shaanxi Rainwood Biotech Co., Ltd.

12. Shanghai Tianjia Biochemical Co., Ltd.

13. Shanxi Reliance Chemicals Co., Ltd.

14. The TNN Development Ltd.

15. Tianjin Okay International Trading Co., Ltd.

16. Unibest Industrial Co., Ltd.

17. Unionchem Corp. Ltd.

18. Wanping Bio Chem Co., Ltd.

19. Weifang Hongyuan Chemical Co., Ltd.

20. Zhejiang Joston Machinery Company

[FR Doc. 2024-19020 Filed 8-22-24; 8:45 am]

BILLING CODE 3510-DS-P